DEPARTMENT OF THE INTERIOR

National Park Service

National Register of Historic Places; Notification of Pending Nominations and Related Actions

Nominations for the following properties being considered for listing or related actions in the National Register were received by the National Park Service before December 3, 2005. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by December 29, 2005.

John W. Roberts,
Acting Chief, National Register/National Historic Landmarks Program.

Arizona

Maricopa County

First Methodist Episcopal Church of Glendale Sanctuary, 7102 N. 58th Dr., Glendale, 05001502

Floralcroft Historic District, Roughly bounded by State St., 59th Ave., Myrtle St., Grand Ave. and 61st Ave., Glendale, 05001505

Glendale Grammar School One-room Class Building, 7301 N. 58th Dr., Glendale, 05001503

Glendale Tract Historic District, 51st Ave. and Northern Ave., Glendale, 05001506

Tinker, C.H., House, 6838 N. 59th Dr., Glendale, 05001504

Colorado

Delta County

First Presbyterian Church of Eckert, 13011 and 13025 CO 65, Eckert, 05001507

Iowa

Montgomery County

Red Oak Firehouse and City Jail, 318 E. Washington Ave., Red Oak, 05001508

Kansas

Chautauqua County

Niotaze Methodist Episcopal Church, 301 N. F St., Niotaze, 05001512

Dickinson County

Abilene Historic District #1, 301, 303, 305, 307, 309 N. Buckeye, Abilene, 05001514

Leavenworth County

First Presbyterian Church, Leavenworth, 407 Walnut St., Leavenworth, 05001515

Lincoln County

Nielsen Farm, 1125 E. Pike Dr., Sylvan Grove, 05001513

Shawnee County

Veale, Tinkham, Building, 909-911 S. Kansas Ave., Topeka, 05001511

Massachusetts

Suffolk County

Stony Brook Reservation Parkways, Metropolitan Park System of Great Boston MPS, (Metropolitan Park System of Greater Boston MPS) Dedham, Enneking, Turtle Pond Parkways, Smith Field, Reservation, W. Border Rds., Boston, 05001509

Worcester County

West Main Street Historic District (Boundary Increase II), Roughly bounded by Charles, Forbes, South and Cross Sts., Westborough, 05001516

North Dakota

Walsh County

Odalen Lutherske Kirke, 6 mi W and ¼ mi N of Jct of ND 32 and Cty Rte 9, Edinburg, 05001517

Ohio

Clinton County

Underwood Farms Rural Historic District, Vicinity of OH 73 and Brimstone Rd., Chester Township, 05001519

Columbiana County

McBean, Daniel, Farmstead, 18709 Fife Coal Rd., Wellsville, 05001518

Oregon

Marion County

Union Street Railroad Bridge and Trestle, Jct of Union St. NE and Water St. NE, Salem, 05001520

Vermont

Orange County

Camp Billings, (Organized Summer Camping in Vermont MPS) 1452 VT 244, Thetford, 05001524

Washington County

Bridge No. 27, Town Hwy 61, Lover's Ln., Berlin, 05001523

Windsor County

Spaulding Bridge, Mill St., Cavenish, 05001522

Virginia

Culpeper County

Fairview Cemetery, VA 522, approx. ¼ mi. W of Main St., Culpeper, 05001521

In the interest of preservation of the resource the comment period for the following resource has been shortened to three (3) days:

Michigan

Gratiot County

Ithaca Downtown Historic District, 100-168 and 101-161 E. Center St., Ithaca, 05001510

[FR Doc. E5-7282 Filed 12-13-05; 8:45 am]

BILLING CODE 4312-51-P